DEPARTMENT OF ENERGY

Federal Energy Regulatory Commission

[Docket No. RP03-489-001]

Vector Pipeline L.P.; Notice of Motion To Place Tariff Sheets Into Effect

December 3, 2003.

Take notice that on November 26, 2003, Vector Pipeline L.P. (Vector) filed pursuant to Section 154.206 of the Commission's regulations a motion to place into effect certain tariff sheets to its FERC Gas Tariff that were suspended by order issued June 30, 2003. The tariff sheets are proposed to be effective December 1, 2003.

Vector states that the purpose of the instant filing is to place into effect on December 1, 2003, the end of the suspension period in this proceeding, the rates filed on May 30, 2003 as adjusted to reflect the agreement of the parties in a settlement filed with the Commission on November 4, 2003, as well as certain other tariff sheets that were the subject of the June 30, 2003 Order.

Vector states that copies of this filing are being served on all jurisdictional customers, applicable state commissions, and participants in Docket No. RP03-489-000.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00493 Filed 12-9-03; 8:45 am]

BILLING CODE 6717-01-P